DEPARTMENT OF ENERGY

Federal Energy Regulatory Commission

Combined Notice of Filings #1

Take notice that the Commission received the following exempt wholesale generator filings:

Docket Numbers: EG26-126-000.

Applicants: Newton Solar BESS LLC.

Description: Newton Solar BESS LLC submits Notice of Self-Certification of Exempt Wholesale Generator Status.

Filed Date: 1/12/26.

Accession Number: 20260112-5140.

Comment Date: 5 p.m. ET 2/2/26.

Take notice that the Commission received the following electric rate filings:

Docket Numbers: ER10-1123-014.

Applicants: Union Electric Company.

Description: Notice of Non-Material Change in Status of Union Electric Company.

Filed Date: 1/7/26.

Accession Number: 20260107-5196.

Comment Date: 5 p.m. ET 1/28/26.

Docket Numbers: ER10-2010-009; ER10-2691-003.

Applicants: The Narragansett Electric Company, PPL Electric Utilities Corporation.

Description: Triennial Market Power Analysis for Northeast Region of PPL Electric Utilities Corporation, et al. and Supplement to 2022 Triennial.

Filed Date: 1/8/26.

Accession Number: 20260108-5227.

Comment Date: 5 p.m. ET 3/9/26.

Docket Numbers: ER22-2580-002.

Applicants: CPV Three Rivers, LLC.

Description: Response to 12/11/2025, Deficiency Letter of CPV Three Rivers, LLC.

Filed Date: 1/12/26.

Accession Number: 20260112-5157.

Comment Date: 5 p.m. ET 2/2/26.

Docket Numbers: ER26-221-001.

Applicants: Eagle Creek Reusens Hydro, LLC.

Description: Compliance filing: Notice of Effective Date to be effective 1/8/2026.

Filed Date: 1/12/26.

Accession Number: 20260112-5121.

Comment Date: 5 p.m. ET 2/2/26.

Docket Numbers: ER26-222-001.

Applicants: Great Falls Hydroelectric Company.

Description: Compliance filing: Notice of Effective Date to be effective 1/8/2026.

Filed Date: 1/12/26.

Accession Number: 20260112-5122.

Comment Date: 5 p.m. ET 2/2/26.

Docket Numbers: ER26-224-001.

Applicants: Lake Lynn Generation, LLC.

Description: Compliance filing: Notice of Effective Date to be effective 1/8/2026.

Filed Date: 1/12/26.

Accession Number: 20260112-5113.

Comment Date: 5 p.m. ET 2/2/26.

Docket Numbers: ER26-226-001.

Applicants: York Haven Power Company, LLC.

Description: Compliance filing: Notice of Effective Date to be effective 1/8/2026.

Filed Date: 1/12/26.

Accession Number: 20260112-5118.

Comment Date: 5 p.m. ET 2/2/26.

Docket Numbers: ER26-227-001.

Applicants: Mahoning Creek Hydroelectric Company, LLC.

Description: Compliance filing: Notice of Effective Date to be effective 1/8/2026.

Filed Date: 1/12/26.

Accession Number: 20260112-5116.

Comment Date: 5 p.m. ET 2/2/26.

Docket Numbers: ER26-229-001.

Applicants: All Dams Generation, LLC.

Description: Compliance filing: Notice of Effective Date to be effective 1/8/2026.

Filed Date: 1/12/26.

Accession Number: 20260112-5115.

Comment Date: 5 p.m. ET 2/2/26.

Docket Numbers: ER26-1001-000.

Applicants: PJM Interconnection, L.L.C.

Description: Tariff Amendment: Notice of Cancellation of ISA, SA No. 4281; Queue No. AA1-100 to be effective 10/1/2024.

Filed Date: 1/9/26.

Accession Number: 20260109-5205.

Comment Date: 5 p.m. ET 1/30/26.

Docket Numbers: ER26-1002-000.

Applicants: Southwest Power Pool, Inc.

Description: § 205(d) Rate Filing: 4163R1 Canadian County Solar Project GIA to be effective 12/19/2025.

Filed Date: 1/12/26.

Accession Number: 20260112-5007.

Comment Date: 5 p.m. ET 2/2/26.

Docket Numbers: ER26-1003-000.

Applicants: PJM Interconnection, L.L.C.

Description: § 205(d) Rate Filing: Original Service Agreement No. 7767—NITSA among PJM and Hyperscale Energy to be effective 1/20/2026.

Filed Date: 1/12/26.

Accession Number: 20260112-5015.

Comment Date: 5 p.m. ET 2/2/26.

Docket Numbers: ER26-1004-000.

Applicants: Otisville PV I, LLC.

Description: Request for Limited and Prospective Waiver, et al. of Otisville PV I, LLC.

Filed Date: 1/9/26.

Accession Number: 20260109-5233.

Comment Date: 5 p.m. ET 1/30/26.

Docket Numbers: ER26-1005-000.

Applicants: PJM Interconnection, L.L.C.

Description: § 205(d) Rate Filing: Amendment to GIA, SA No. 7425; Project Identifier No. E04_W20/AD2-110 to be effective 3/14/2026.

Filed Date: 1/12/26.

Accession Number: 20260112-5037.

Comment Date: 5 p.m. ET 2/2/26.

Docket Numbers: ER26-1006-000.

Applicants: Consolidated Edison Company of New York, Inc.

Description: § 205(d) Rate Filing: 102 January 2026 Enhanced EAP to be effective 1/13/2026.

Filed Date: 1/12/26.

Accession Number: 20260112-5052.

Comment Date: 5 p.m. ET 2/2/26.

Docket Numbers: ER26-1007-000.

Applicants: Midcontinent Independent System Operator, Inc.

Description: § 205(d) Rate Filing: 2026-01-12_SA 4651 MidAmerican-MidAmerican GIA (E0002) to be effective 12/31/2025.

Filed Date: 1/12/26.

Accession Number: 20260112-5057.

Comment Date: 5 p.m. ET 2/2/26.

Docket Numbers: ER26-1008-000.

Applicants: Midcontinent Independent System Operator, Inc.

Description: § 205(d) Rate Filing: 2026-01-12_SA 4652 MEC-OTP-NSP-ITC-MEC JTIQ CA (E0002) to be effective 1/5/2026.

Filed Date: 1/12/26.

Accession Number: 20260112-5061.

Comment Date: 5 p.m. ET 2/2/26.

Docket Numbers: ER26-1009-000.

Applicants: PJM Interconnection, L.L.C.

Description: § 205(d) Rate Filing: Three GIAs, Service Agreement Nos. 7800, 7801, 7802; AF1-123, AF1-124, AF1-125 to be effective 12/19/2025.

Filed Date: 1/12/26.

Accession Number: 20260112-5069.

Comment Date: 5 p.m. ET 2/2/26.

Docket Numbers: ER26-1010-000.

Applicants: Southwest Power Pool, Inc.

Description: § 205(d) Rate Filing: Revisions to Allow Netting of Flows in the LTCR Allocation to be effective 12/31/9998.

Filed Date: 1/12/26.

Accession Number: 20260112-5087.

Comment Date: 5 p.m. ET 2/2/26.

Docket Numbers: ER26-1011-000.

Applicants: Newton Solar BESS LLC.

Description: Initial Rate Filing: Newton Solar BESS MBR Application to be effective 1/26/2026.

Filed Date: 1/12/26.

Accession Number: 20260112-5126.

Comment Date: 5 p.m. ET 2/2/26.

Docket Numbers: ER26-1012-000.

Applicants: Pastoria Power, LLC.

Description: Initial Rate Filing: Market-Based Rate Application and Request for Waivers and Blanket Approvals to be effective 1/13/2026.

Filed Date: 1/12/26.

Accession Number: 20260112-5148.

Comment Date: 5 p.m. ET 2/2/26.

Docket Numbers: ER26-1013-000.

Applicants: Pastoria Solar Energy Company, LLC.

Description: Initial Rate Filing: Market-Based Rate Application and Request for Waivers and Blanket Approvals to be effective 1/13/2026.

Filed Date: 1/12/26.

Accession Number: 20260112-5154.

Comment Date: 5 p.m. ET 2/2/26.

Take notice that the Commission received the following public utility holding company filings:

Docket Numbers: PH26-5-000.

Applicants: LS Power Develop.m.ent, LLC.

Description: LS Power Develop.m.ent, LLC submits FERC 65-B Notice of Change in Fact to Waiver Notification.

Filed Date: 1/8/26.

Accession Number: 20260108-5228.

Comment Date: 5 p.m. ET 1/29/26.

The filings are accessible in the Commission's eLibrary system (https://elibrary.ferc.gov/idmws/search/fercgensearch.asp) by querying the docket number. Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding. eFiling is encouraged. More detailed information relating to filing requirements, interventions, protests, service, and qualifying facilities filings can be found at: http://www.ferc.gov/docs-filing/efiling/filing-req.pdf. For other information, call (866) 208-3676 (toll free). For TTY, call (202) 502-8659. For public inquiries and assistance with making filings such as interventions, comments, or requests for rehearing, contact the Office of Public Participation at (202) 502-6595 or OPP@ferc.gov.

Dated: January 12, 2026.
Carlos D. Clay,
Deputy Secretary.

[FR Doc. 2026-00692 Filed 1-14-26; 8:45 am]

BILLING CODE 6717-01-P